SMALL BUSINESS ADMINISTRATION

[Disaster Declaration #16429 and #16430; TENNESSEE Disaster Number TN-00121]

Presidential Declaration of a Major Disaster for the State of Tennessee

AGENCY: U.S. Small Business Administration.

ACTION: Notice.

SUMMARY: This is a Notice of the Presidential declaration of a major disaster for the State of Tennessee (FEMA-4541-DR), dated 04/24/2020.

Incident: Severe Storms, Tornadoes, Straight-line Winds, and Flooding.

Incident Period: 04/12/2020 through 04/13/2020.

DATES: Issued on 04/24/2020.

Physical Loan Application Deadline Date: 06/23/2020.

Economic Injury (EIDL) Loan Application Deadline Date: 01/25/2021.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 04/24/2020, applications for disaster loans may be filed at the address listed above or other locally announced locations.

The following areas have been determined to be adversely affected by the disaster:

Primary Counties (Physical Damage and Economic Injury Loans): Bradley, Hamilton.

Contiguous Counties (Economic Injury Loans Only):

Tennessee: Bledsoe, Marion, McMinn, Meigs, Polk, Rhea, Sequatchie.

Georgia: Catoosa, Dade, Murray, Walker, Whitfield.

The Interest Rates are:

| Percent
Homeowners With Credit Available Elsewhere | 3.125
Homeowners Without Credit Available Elsewhere | 1.563
Businesses With Credit Available Elsewhere | 7.500
Businesses Without Credit Available Elsewhere | 3.750
Non-Profit Organizations With Credit Available Elsewhere | 2.750
Non-Profit Organizations Without Credit Available Elsewhere | 2.750
Businesses & Small Agricultural Cooperatives Without Credit Available Elsewhere | 3.750
Non-Profit Organizations Without Credit Available Elsewhere | 2.750

The number assigned to this disaster for physical damage is 16429C and for economic injury is 164300.

(Catalog of Federal Domestic Assistance Number 59008)

Cynthia Pitts,
Acting Associate Administrator for Disaster Assistance.

[FR Doc. 2020-09179 Filed 4-29-20; 8:45 am]

BILLING CODE 8026-03-P